ENVIRONMENTAL PROTECTION AGENCY

[EPA-R08-OW-2015-0346; FRL-9929-80-Region-8]

Proposed Issuance of NPDES General Permits for Wastewater Lagoon Systems Located in Indian Country in EPA Region 8

AGENCY: Environmental Protection Agency (EPA).

ACTION: Notice of availability for comment.

SUMMARY: The Environmental Protection Agency (EPA) Region 8 is providing for comment the draft 2015 National Pollutant Discharge Elimination System (NPDES) lagoon general permits for wastewater lagoon systems located in Indian country in Region 8 (Colorado, Montana, North Dakota, South Dakota, Utah, and Wyoming). These draft permits are similar to the existing permits and will authorize the discharge of wastewater from lagoons located in Region 8 Indian country in accordance with the terms and conditions described therein. EPA proposes to issue these permits for five (5) years and is seeking comment on the draft permits.

DATES: Comments must be received, in writing, on or before July 30, 2015.

ADDRESSES: Submit your comments, identified by Docket ID No. EPA-R08-OW-2015-0346, by one of the following methods:

• http://www.regulations.gov. Follow the on-line instructions for submitting comments.

• Mail: VelRey Lozano, Wastewater Program, Environmental Protection Agency (EPA), Region 8, Mailcode 8P-W-WW, 1595 Wynkoop Street, Denver, Colorado 80202-1129.

• Hand Delivery: VelRey Lozano, Wastewater Program, Environmental Protection Agency (EPA), Region 8, Mailcode 8P-W-WW, 1595 Wynkoop Street, Denver, Colorado 80202-1129. Such deliveries are only accepted Monday through Friday, 8:00 a.m. to 4:30 p.m., excluding federal holidays. Special arrangements should be made for deliveries of boxed information.

Instructions: Direct your comments to Docket ID No. EPA-R08-OW-2015-0346. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA, without going through http://www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, see Section I, General Information of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Wastewater Program, Environmental Protection Agency (EPA), Region 8, 1595 Wynkoop Street, Denver, Colorado 80202-1129. EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: VelRey Lozano, Wastewater Program, U.S. Environmental Protection Agency, Region 8, Mailcode 8P-W-WW, 1595 Wynkoop Street, Denver, Colorado 80202-1129, (303) 312-6128, lozano.velrey@epa.gov.

SUPPLEMENTARY INFORMATION:

I. General Information

A. What should I consider as I prepare my comments for EPA?

1. Submitting CBI. Do not submit this information to EPA through http://regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

a. Identify the public notice and docket number and other identifying information (subject heading, Federal Register date and page number).

b. Follow directions—Organize comments by referencing the part of the permit or fact sheet by section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns, and suggest alternatives.

g. Explain your views as clearly as possible, avoiding the use of profanity or personal threats.

h. Make sure to submit your comments by the comment period deadline identified.

II. Background

These draft permits are similar to the current permits and will authorize the discharge of wastewater in accordance with the terms and conditions described therein. The fact sheet for the permits is provided for download concurrently with the permits and provides detailed information on; the decisions used to set limitations, the specific geographic areas covered by the permits, information on monitoring schedules, inspection requirements, and other regulatory decisions or requirements.

Issuance of the general permits will cover discharges from wastewater lagoon systems located in Colorado, Montana, North Dakota, South Dakota, Utah and Wyoming. The general permits are grouped geographically by state, with the permit coverage being for specified Indian reservations located within a state boundary [specific permit coverage areas below]; any land held in trust by the United States for an Indian tribe; and any other areas which are Indian country within the meaning of 18 U.S.C. 1151.

III. Summary of Permits

A. Colorado: COG587###

This permit covers the Southern Ute Reservation and the Ute Mountain Reservation, including those portions of the Reservation located in New Mexico and Utah.

B. Montana: MTG589###

This permit covers the Blackfeet Indian Reservation of Montana; the Crow Indian Reservation; the Flathead Reservation; the Fort Belknap Reservation of Montana; the Fort Peck Indian Reservation; the Northern Cheyenne Indian Reservation; and, the Rocky Boy's Reservation.

C. North Dakota: NDG589###

This permit covers the Fort Berthold Reservation; the Spirit Lake Indian Reservation; the Standing Rock Sioux Reservation; and, the Turtle Mountain Reservation.

This permit includes that portion of the Standing Rock Sioux Reservation and associated Indian country located within the State of South Dakota. It does not include any land held in trust by the United States for the Sisseton-Wahpeton Oyate or any other Indian country associated with that Tribe, which is covered under general permit SDG589###.

D. South Dakota: SDG589###

This permit covers the Cheyenne River Reservation; Crow Creek Reservation; the Flandreau Santee Sioux Indian Reservation; the Lower Brule Reservation; the Pine Ridge Reservation (including the entire Reservation, which is located in both South Dakota and Nebraska); the Rosebud Sioux Indian Reservation; and, the Yankton Sioux Reservation.

This permit includes any land in the State of North Dakota that is held in trust by the United States for the Sisseton-Wahpeton Oyate or any other Indian country associated with that Tribe. It does not include the Standing Rock Sioux Reservation or any associated Indian country, which is covered under general permit NDG589###.

E. Utah: UTG589###

This permit covers the Northwestern Band of Shoshoni Nation of Utah Reservation (Washakie); the Paiute Indian Tribe of Utah Reservation; the Skull Valley Indian Reservation; and Indian country lands within the Uintah & Ouray Reservation. It does not include any portions of the Navajo Nation or the Goshute Reservation.

F. Wyoming: WYG589###

This permit covers the Wind River Reservation.

Coverage under the general permits will be limited to lagoon systems treating primarily domestic wastewater and will include two categories of coverage; discharging lagoons (DIS), and lagoons expected to have no discharge (NODIS). The effluent limitations for discharging lagoons are based on the Federal Secondary Treatment Regulation (40 CFR part 133) and best professional judgement (BPJ). If more stringent and/or additional effluent limitations are considered necessary to comply with applicable water quality standards, etc., those limitations and their basis are explained in the permit fact sheets and will be imposed by written notification to the permittee. Lagoon systems under the no discharge category are required to have no discharge except in accordance with the bypass provisions of the permit. Self-monitoring requirements and routine inspection requirements are included in the permits.

Where the Tribes have Clean Water Act section 401(a)(1) certification authority; Flathead Indian Reservation, the Fort Peck Indian Reservation, Northern Cheyenne Indian Reservation, and the Ute Mountain Indian Reservation; EPA has requested certification that the permits comply with the applicable provisions of the Clean Water Act and tribal water quality standards.

IV. Other Legal Requirements

Economic Impact (Executive Order 12866): EPA has determined that the issuance of these general permits is not a “significant regulatory action” under the terms of Executive Order 12866 (58 FR 51735, October 4, 1993) and is therefore not subject to formal OMB review prior to proposal.

Paperwork Reduction Act: EPA has reviewed the requirements imposed on regulated facilities in these proposed general permits under the Paperwork Reduction Act of 1980, 44 U.S.C. 501, et seq. The information collection requirements of these permits have already been approved by the Office of Management and Budget in submissions made for the NPDES permit program under the provisions of the Clean Water Act.

Unfunded Mandates Reform Act: Section 201 of the Unfunded Mandates Reform Act (UMRA), Public Law 104-4, generally requires federal agencies to assess the effects of their “regulatory actions” defined to be the same as “rules” subject to the Regulatory Flexibility Act (RFA) on tribal, state, local governments and the private sector. Since the permit proposed today is an adjudication, it is not subject to the RFA and is therefore not subject to the requirements of the UMRA.

Authority: Clean Water Act, 33 U.S.C. 1251, et seq.

Dated: June 9, 2015.
Darcy O'Connor,
Acting Assistant Regional Administrator, Office of Partnerships and Regulatory Assistance.

[FR Doc. 2015-16042 Filed 6-29-15; 8:45 am]

BILLING CODE 6560-50-P